DEPARTMENT OF HEALTH AND HUMAN SERVICES

Centers for Disease Control and Prevention

[30Day-15-0214; Docket No. CDC-2015-0076]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies. Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs. To request additional information on the proposed project or to obtain a copy of the information collection plan and instruments, call (404) 639-7570 or send an email to omb@cdc.gov. Direct written comments and/or suggestions regarding the items contained in this notice to the Attention: CDC Desk Officer, Office of Management and Budget, Washington, DC 20503 or by fax to (202) 395-5806. Written comments should be received within 30 days of this notice.

Proposed Project

National Health Interview Survey (NHIS) (OMB Control No. 0920-0214, expires 12/31/2017)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect data on the extent and nature of illness and disability of the population of the United States. The annual National Health Interview Survey is a major source of general statistics on the health of the U.S. population and has been in the field continuously since 1957. Clearance is sought for three years, to collect data from 2016 to 2018. This voluntary and confidential household-based survey collects demographic and health-related information from a nationally representative sample of noninstitutionalized, civilian persons and households throughout the country. Personal identification information is requested from survey respondents to facilitate linkage of survey data with health-related administrative and other records. In 2016 the NHIS will collect information from approximately 45,000 households, which contain about 112,000 individuals.

Information is collected using computer assisted personal interviews (CAPI). A core set of data is collected each year that remains largely unchanged, whereas sponsored supplements vary from year to year. The core set includes socio-demographic characteristics, health status, health care services, and health behaviors. For 2016, supplemental questions will be cycled in pertaining to balance, blood donation, chronic pain, diabetes, and vision. Supplemental topics that continue or are enhanced from 2015 pertain to family food security, heart disease and stroke, inflammatory bowel disease, hepatitis B and C screening, children's mental health, disability and functioning, smokeless tobacco and e-cigarettes, and immunizations. Questions from 2015 on cancer control, epilepsy, and occupational health have been removed. In addition to these core and supplemental modules, a follow-back survey will be conducted on previous NHIS respondents to collect additional health related information using alternative question wording and data collection modes as a testbed for the intended 2018 redesign of the NHIS questionnaire. In addition, a subsample of NHIS respondents may be identified to participate in a pilot test to assess the feasibility of integrating wearable devices into the NHIS data collection process. The aim is to directly track health measurements, to compare those measurements to the self-reported health information provided by respondents, and to assess the role of devices in reducing respondent burden.

A new sampling strategy is being implemented in 2016 and for the foreseeable future. This new sampling design is necessitated by the prior 2006-2015 sample being exhausted, and will take into account demographic shifts in the U.S. civilian noninstitutionalized population. It will also be more flexible allowing for additions and contractions to reflect funding availability and to meet estimation goals. As in previous years, the base sample will remain at approximately 35,000 completed household interviews annually. To balance the precision of national and state-based estimates, most of the sample (approximately 25,000 completed interviews) will be allocated proportionally to the state population to maximize the precision of national-level estimates. A smaller portion of the sample (approximately 10,000 completed interviews) will be shifted to increase sample in the 10 least populous states, enabling state-level estimates of key variables to be produced for all 50 states and DC by pooling 3 years of data. This flexibility embedded in the new sampling plan reflects. Additional funding to improve state-level estimates will increase the sample by almost 10,000 completed interviews in midsize states bringing the total expected sample size in 2016 to 45,000 households.

Whereas the sampling frame for the NHIS has traditionally used field listing by the Census Bureau, in order to contain costs, the new frame will use a commercially available address list that covers residential addresses within all 50 states and the District of Columbia. Some field listing will be undertaken to improve coverage in rural areas, in high density areas, and of university housing units. This represents a substantial reduction in the number of listings performed annually.

It is anticipated that this new sampling plan will not affect estimates generated using NHIS data. To monitor the new design's performance, NHIS analysts will perform monthly checks in line with the ones currently performed as part of routine data review. NCHS receives raw data files monthly from the Census Bureau for processing and quality review. Each year, results from the January sample are compared to the previous year to determine whether the results consistent. In addition to comparing the unweighted and weighted frequencies, the input and output specifications are reviewed, and the flowcharts are compared to the skip instructions and universes for each question. If a difference is found, steps are taken to determine whether the change is legitimate or whether there is a factor other than the programming of the questionnaire such as the location or context of the question in the questionnaire. If a difference persists, the paradata are reviewed to determine whether there are changes in the mean or median time spent on that question, whether interviewers had a high rate of backing up to return to that question, and whether other questions in that battery were similarly affected. Persistent differences will be examined to determine whether there is any other interviewer effect such as results comparing newly hired and experienced interviewers and newly added primary sampling units compared to continuing primary sampling units. In addition, national estimates on the key set of indicators that are released in a quarterly report as part of the Early Release program will be monitored by NHIS analysts.

In accordance with the 1995 initiative to increase the integration of surveys within the DHHS, respondents to the NHIS serve as the sampling frame for the Medical Expenditure Panel Survey conducted by the Agency for Healthcare Research and Quality. The NHIS has long been used by government, academic, and private researchers to evaluate both general health and specific issues, such as smoking, diabetes, health care coverage, and access to health care. It is a leading source of data for the Congressionally-mandated “Health US” and related publications, as well as the single most important source of statistics to track progress toward the National Health Promotion and Disease Prevention Objectives, “Healthy People 2020.”

Burden hours have seen a net increase of 1,367 hours compared to 2015 due to the removal of the screener questionnaire and the addition of the questionnaire redesign activities. There is no cost to the respondents other than their time.

Estimated Annualized Burden Hours
Type of respondents | Form name | Number of respondents | Number of responses per respondent | Average burden per response (in hours)
Adult Family Member | Family Questionnaire | 45,000 | 1 | 23/60
Sample Adult | Sample Adult Questionnaire | 36,000 | 1 | 15/60
Adult Family Member | Sample Child Questionnaire | 14,000 | 1 | 10/60
Adult Family Member | Supplements | 45,000 | 1 | 20/60
Adult Family Member | Special Projects | 15,000 | 1 | 20/60
Adult Family Member | Reinterview Questions | 5,000 | 1 | 5/60
Total |  |  |  | 49,000

Leroy A. Richardson,
Chief, Information Collection Review Office, Office of Scientific Integrity, Office of the Associate Director for Science, Office of the Director, Centers for Disease Control and Prevention.

[FR Doc. 2015-30854 Filed 12-7-15; 8:45 am]

BILLING CODE 4163-18-P